DEPARTMENT OF DEFENSE

Office of the Secretary

[Docket ID: DoD-2013-OS-0120]

Privacy Act of 1974; System of Records

AGENCY: National Geospatial-Intelligence Agency, DoD.

ACTION: Notice to alter a System of Records.

SUMMARY: The National Geospatial-Intelligence Agency is altering a system of records in its inventory of record systems subject to the Privacy Act of 1974 (5 U.S.C. 552a(r)), as amended. The blanket (k)(1) exemption applies to this systems of records to accurately describe the basis for exempting disclosure of classified information that is or may be contained in the records.

DATES: This proposed action will be effective on June 24, 2013 unless comments are received which result in a contrary determination. Comments will be accepted on or before June 24, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: National Geospatial-Intelligence Agency (NGA), ATTN: Security Specialist, Mission Support, MSRS P-12, 7500 GEOINT Drive, Springfield, VA 22150.

SUPPLEMENTARY INFORMATION: The National Geospatial-Intelligence Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on July 23, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 21, 2013.
Aaron Siegel,
Alternate OSD Federal Register Liaison Officer, Department of Defense.

B0303-06

System name:

National Geospatial-Intelligence Agency (NGA)—Enterprise Workforce System (NEWS) (January 25, 2010, 75 FR 3899)

Changes:

Change system ID to “NGA-003”.

System name:

Delete entry and replace with “National Geospatial-Intelligence Agency Enterprise Workforce System.”

System location:

Delete entry and replace with “Records are maintained at National Geospatial-Intelligence Agency (NGA) headquarters in Washington, DC metro facilities.”

Categories of individuals covered by the system:

Delete entry and replace with “Current and former NGA employees, military personnel, independent industry advisors, contractors, and foreign visitors employed by or assigned to NGA facilities.”

Categories of records in the system:

Delete entry and replace with “Identifying information, such as name, date of birth, place of birth, address, telephone numbers, email addresses, employee identification number, job title and band, emergency contact information, supervisor's contact information, photographs, passport and/or drivers' license information, citizenship, polygraph, security clearance, access control passes, payroll information, Social Security Number (SSN), time and attendance, performance, awards and bonuses, duty location, education and training data, military and veterans status, gender, ethnicity/race indicator, disability data, drug, vision and medical test results for deployment readiness.”

Authority for maintenance of the system:

Delete entry and replace with “50 U.S.C. § 402a; Coordination of counterintelligence activities; Executive Order 10450, Security requirements for Government employment; Executive Order 12968 Access to classified information; 5 CFR part 732, National security positions; 5 CFR part 736, Personnel Investigations; 32 CFR part 147, Adjudicative Guidelines for Determining Eligibility for Intelligence Directive (DCID) 6/4, Personnel Security Standards and Procedures Governing Eligibility for Access to Sensitive Compartmented Information; 5 U.S.C. 301 Departmental Regulations; DoDD 5105.60, National Geospatial-Intelligence Agency (NGA); 5 U.S.C. 7532, Suspension and Removal; Employees; E.O. 12958, Classified National Security Information; DoD 5200.2-R, DoD Personnel Security Program; Director of Central Intelligence Directive No. 1/14, Personnel Security Standards and Procedures Governing Eligibility for Access to Sensitive Compartmented Information (SCI); and E.O. 9397 (SSN), as amended.”

Purpose(s):

Delete entry and replace with “NGA collects, uses, maintains, and disseminates employee information to facilitate a variety of NGA's mission-related duties, including activities related to administrative matters, account creation, operations support, access controls, workforce security, training records, expertise, competency management, polygraph information, drug, vision and medical test results, Federal reporting requirements, and international counterintelligence. NGA Enterprise Workforce System data, which includes personally identifiable information (PII), is necessary for NGA to effectively and efficiently conduct its mission on multiple levels by using PII provided by employees and contingent workers.”

Routine uses of records maintained in the system, including categories of users and the purpose of such uses:

Delete entry and replace with “In addition to those disclosures generally permitted under 5 U.S.C. 552a(b) of the Privacy Act of 1974, as amended, these records may be specifically disclosed outside of the DoD as a routine use pursuant to 5 U.S.C. a(b)(3) as follows:

The DoD Blanket Routine Uses set forth at the beginning of NGA's compilation or systems of records notices apply to this system.”

Policies and practices for storing, retrieving, accessing, retaining, and disposing of records in the system:

Storage:

Delete entry and replace with “Records in this system are stored electronically.”

Retrievability:

Delete entry and replace with “Records may be retrieved by name or other personal identifier listed above in the Categories of Records.”

Safeguards:

Delete entry and replace with “Records in this system are safeguarded in accordance with applicable rules and policies, including all applicable NGA automated systems security and access policies. Strict controls have been imposed to minimize the risk of compromising the information that is being stored. Access to the computer system containing the records in this system is limited to those individuals who have a need to know the information for the performance of their official duties and who have appropriate clearances or permissions. Some of the technical controls include, limited, role based access as well as profiles based access to limit users to only data that is needed for the performance of their official duties. The system is located in a secure data center and operated by Federal personnel.”

Retention and disposal:

Delete entry and replace with “NGA will delete or destroy these records three years after the end date of employment with NGA.”

System manager(s) and address:

Delete entry and replace with “Corporate Applications Branch, User Access Services Division (ASU), National Geospatial-Intelligence Agency, 7500 GEOINT Drive, Springfield, VA 22170.”

Notification procedure:

Delete entry and replace with “Individuals seeking to determine whether this system of records contains information about themselves should address written inquiries to the National Geospatial-Intelligence Agency (NGA), Freedom of Information Act/Privacy Act Office, 7500 GEOINT Drive, Springfield, VA 22150.

The request envelope and letter should both be clearly marked `Privacy Act Inquiry.'

The written request must contain your full name, current address, and date and place of birth. Also include an explanation of why you believe NGA would have information on you and specify when you believe the records would have been created.

You must sign your request and your signature must either be notarized or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). Signature)'.”

Record access procedures:

Delete entry and replace with “Individuals seeking access to this system of records contains information about themselves should address written inquiries to the National Geospatial-Intelligence Agency (NGA), Freedom of Information Act/Privacy Act Office, 7500 GEOINT Drive, Springfield, VA 22150.

The request envelope and letter should both be clearly marked `Privacy Act Inquiry.'

The written request must contain your full name, current address, and date and place of birth. Also include an explanation of why you believe NGA would have information on you and specify when you believe the records would have been created.

You must sign your request and your signature must either be notarized or an unsworn declaration made in accordance with 28 U.S.C. 1746, in the following format:

If executed outside the United States:

`I declare (or certify, verify, or state).under penalty of perjury under the laws of the United States of America that the foregoing is true and correct. Executed on (date). (Signature)'.

If executed within the United States, its territories, possessions, or commonwealths:

`I declare (or certify, verify, or state) under penalty of perjury that the foregoing is true and correct. Executed on (date). Signature)'.”

Contesting record procedure:

Delete entry and replace with “Individuals contesting the accuracy of records in this system of records contains information about themselves should address written inquiries to the National Geospatial-Intelligence Agency (NGA), Freedom of Information Act/Privacy Act Office, 7500 GEOINT Drive, Springfield, VA 22150.

The request envelope and letter should both be clearly marked `Privacy Act Inquiry.'

The written request must contain your full name, current address, and date and place of birth. Also include an explanation of why you believe NGA would have information on you and specify when you believe the records would have been created.

You must sign your request and your signature must either be notarized or an unsworn declaration made in accordance with 28 U.S.C. 1746, in the following format:

If executed outside the United States:

`I declare (or certify, verify, or state).under penalty of perjury under the laws of the United States of America that the foregoing is true and correct. Executed on (date). (Signature)'.

If executed within the United States, its territories, possessions, or commonwealths:

`I declare (or certify, verify, or state) under penalty of perjury that the foregoing is true and correct. Executed on (date). Signature)'.”

Record source categories:

Delete entry and replace with “Information originates from the individual and from sources contacted during personnel and background investigations.”

Exemptions claimed for the system:

Delete entry and replace with “An exemption rule for this system has been promulgated in accordance with requirements of 5 U.S.C. 552a(d) pursuant to 5 U.S.C. 552a(k)(1) and published in 32 CFR Part 320. For additional information, contact the system owner.”

[FR Doc. 2013-12432 Filed 5-23-13; 8:45 am]

BILLING CODE 5001-06-P